DEPARTMENT OF LABOR

Employment and Training Administration

[TA-W-64,014]

Delphi Corporation, Powertrain Division, Customer Technical Center Michigan, Including On-Site Leased Workers from Bartech And Securitas Security, Auburn Hills, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 17, 2008, applicable to workers of Delphi Corporation, Powertrain Division, Customer Technical Center Michigan, Auburn Hills, Michigan. The notice was published in the Federal Register on December 10, 2008 (73 FR 75134).

At the request of the State agency, the Department reviewed the certification for workers of the subject firm. The workers perform engineering design services for product development of automotive components for engine and powertrain applications.

New information shows that workers leased from Bartech and Securitas Security were employed on-site at the Auburn Hills, Michigan location of Delphi Corporation, Powertrain Division, Customer Technical Center Michigan. The Department has determined that these workers were sufficiently under the control of Delphi Corporation to be considered leased workers.

Based on these findings, the Department is amending this certification to include workers leased from Bartech and Securitas Security working on-site at the Auburn Hills, Michigan location of the subject firm.

The intent of the Department's certification is to include all workers employed at Delphi Corporation, Powertrain Division, Customer Technical Center Michigan, Auburn Hills, Michigan who were adversely affected by increased imports.

The amended notice applicable to TA-W-64,014 is hereby issued as follows:

All workers of Delphi Corporation, Powertrain Division, Customer Technical Center Michigan, including on-site leased workers from Bartech and Securitas Security, Auburn Hills, Michigan, who became totally or partially separated from employment on or after September 9, 2007, through November 17, 2010, are eligible to apply for adjustment assistance under Section 223 of the Trade Act of 1974, and are also eligible to apply for alternative trade adjustment assistance under Section 246 of the Trade Act of 1974.

Signed at Washington, DC, this 17th day of December 2008.
Linda G. Poole,
Certifying Officer, Division of Trade Adjustment Assistance.

[FR Doc. E8-30917 Filed 12-29-08; 8:45 am]

BILLING CODE 4510-FN-P